DEPARTMENT OF HEALTH AND HUMAN SERVICES

Substance Abuse and Mental Health Services Administration

Center for Substance Abuse Prevention; Notice of Meeting

Pursuant to Pub. L. 92-463, notice is hereby given of a Teleconference Meeting of the SAMHSA Center for Substance Abuse Prevention (CSAP) National Advisory Council to be held in March 2004.

The Teleconference Meeting will be open and include discussion of the Center's policy issues and current administrative and program developments.

A summary of this meeting, a roster of committee members and substantive program information may be obtained from Carol Watkins, Executive Secretary, Rockwall II Building, Suite 900, 5600 Fishers Lane, Rockville, Maryland 20857, Telephone: (301) 443-9542. Public comments are welcome. Please communicate with the individual listed below as contact for guidance.

If anyone needs special accommodations for persons with disabilities, please notify the contact listed below.

Committee Name: SAMHSA Center for Substance Abuse Prevention National Advisory Council.

Meeting Date and Time: OPEN—Tuesday, March 2, 2004, 2 p.m.-4 p.m.

Place: Conference Room I, 5515 Security Lane, Rockwall II, Rockville, Maryland, 20852, Telephone (301) 443-0365.

Contact: Carol D. Watkins, Executive Secretary, 5600 Fishers Lane, Rockwall II Building, Suite 900, Rockville, Maryland 20857, Telephone: (301) 443-9542.

Dated: February 11, 2004.
Toian Vaughn,
Executive Secretary/Committee Management Officer, Substance Abuse and Mental Health Services Administration (SAMHSA).

[FR Doc. 04-3489 Filed 2-18-04; 8:45 am]

BILLING CODE 4162-20-P